DEPARTMENT OF THE TREASURY

Office of the Comptroller of the Currency

Agency Information Collection Activities: Information Collection Renewal; Submission for OMB Review; Registration of Mortgage Loan Originators

AGENCY: Office of the Comptroller of the Currency (OCC), Treasury.

ACTION: Notice and request for comment.

SUMMARY: The OCC, as part of its continuing effort to reduce paperwork and respondent burden, invites the general public and other Federal agencies to take this opportunity to comment on a continuing information collection as required by the Paperwork Reduction Act of 1995 (PRA). In accordance with the requirements of the PRA, the OCC may not conduct or sponsor, and respondents are not required to respond to, an information collection unless it displays a currently valid Office of Management and Budget (OMB) control number. The OCC is soliciting comment concerning the renewal of its information collection titled, “Registration of Mortgage Loan Originators.” The OCC also is giving notice that it has sent the collection to OMB review.

DATES: You should submit written comments by: July 14, 2021.

ADDRESSES: Commenters are encouraged to submit comments by email, if possible. You may submit comments by any of the following methods:

• Email: prainfo@occ.treas.gov.

• Mail: Chief Counsel's Office, Attention: Comment Processing, 1557-0243, Office of the Comptroller of the Currency, 400 7th Street SW, Suite 3E-218, Washington, DC 20219.

• Hand Delivery/Courier: 400 7th Street SW, Suite 3E-218, Washington, DC 20219.

• Fax: (571) 465-4326.

Instructions: You must include “OCC” as the agency name and “1557-0243” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Written comments and recommendations for the proposed information collection should be sent within 30 days of publication of this notice to www.reginfo.gov/public/do/PRAMain. Find this particular information collection by selecting “Currently under 30-day Review—Open for Public Comments” or by using the search function.

You may review comments and other related materials that pertain to this information collection ¹ following the close of the 30-day comment period for this notice by the following method:

¹ On March 17, 2021, the OCC published a 60-day notice for this information collection, 86 FR 14678.

• Viewing Comments Electronically: Go to www.reginfo.gov. Click on the “Information Collection Review” tab. Underneath the “Currently under Review” section heading, from the drop-down menu select “Department of Treasury” and then click “submit.” This information collection can be located by searching by OMB control number “1557-0243” or “Registration of Mortgage Loan Originators.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, OCC Clearance Officer, (202) 649-5490, Chief Counsel's Office, Office of the Comptroller of the Currency, 400 7th Street SW, Suite 3E-218, Washington, DC 20219.

SUPPLEMENTARY INFORMATION: Under the PRA (44 U.S.C. 3501-3520), Federal agencies must obtain approval from the OMB for each collection of information that they conduct or sponsor. “Collection of information” is defined in 44 U.S.C. 3502(3) and 5 CFR 1320.3(c) to include agency requests or requirements that members of the public submit reports, keep records, or provide information to a third party. The OCC asks that OMB extend its approval of this collection.

Title: Registration of Mortgage Loan Originators.

OMB Control No.: 1557-0243.

Description: The Secure and Fair Enforcement for Mortgage Licensing Act (the S.A.F.E. Act or Act) ² requires an employee of a Federally-regulated bank, savings association, credit union, or farm credit institution and their subsidiaries (collectively, institutions) who engages in the business of a residential mortgage loan originator (MLO) and does not qualify for the de minimis exception to register with the Nationwide Mortgage Licensing System and Registry (Registry) and obtain a unique identifier. Further, the S.A.F.E. Act provides that institutions must require their employees who act as MLOs to comply with the Act's registration requirements and obtain a unique identifier. Institutions must also adopt and follow written policies and procedures to ensure compliance with these requirements.

² The S.A.F.E. Act was enacted as part of the Housing and Economic Recovery Act of 2008, Public Law 110-289, Division A, Title V, sections 1501-1517, 122 Stat. 2654, 2810-2824 (July 30, 2008), codified at 12 U.S.C. 5101-5116.

Among other things, the Registry is intended to aggregate and improve the flow of information to and between regulators; provide increased accountability and tracking of mortgage loan originators; enhance consumer protections; reduce fraud in the residential mortgage loan origination process; and provide consumers with easily accessible information at no charge regarding the employment history of, and the publicly adjudicated disciplinary and enforcement actions against, MLOs.

Along with the Board of Governors of the Federal Reserve System, the Federal Deposit Insurance Corporation, the National Credit Union Administration, and the Farm Credit Administration, the OCC issued a final rule implementing the S.A.F.E. Act.³ The Dodd-Frank Wall Street Reform and Consumer Protection Act (Dodd-Frank Act), Public Law 111-203, later provided for the transfer of this rule to the Consumer Financial Protection Bureau (CFPB), and the CFPB republished this rule as 12 CFR part 1007.⁴ However, the OCC retains enforcement authority for national banks, Federal savings associations and Federal branches and agencies of foreign banks with total assets of $10 billion or less.⁵

³ 75 FR 44656 (July 28, 2010), as corrected in 75 FR 51623 (Aug. 23, 2010).

⁴ 76 FR 78487 (Dec. 19, 2011).

⁵ See section 1025 of the Dodd-Frank Act, codified at 12 U.S.C. 5515.

MLO Reporting Requirements

Except in situations where the de minimis exception applies, 12 CFR 1007.103 requires an employee of an institution who acts as an MLO to register with the Registry, obtain a unique identifier, and maintain and update such registration. This section also requires institutions to require their MLO employees to comply with these requirements. Section 1007.103(d) sets forth the categories of information that an institution must require each MLO employee to submit to the Registry or submit on the employee's behalf. This section also requires each MLO employee to submit to the Registry an attestation as to the correctness of the information submitted and an authorization for the Registry and the employing institution to obtain certain additional information related to the employee.

MLO Disclosure Requirement

Twelve CFR 1007.105(a) requires institutions to make the unique identifier(s) of its registered MLOs available to consumers in a manner and method practicable to the institution. Section 1007(b) requires MLOs to provide their unique identifier to a consumer upon request, before acting as an MLO, and through the originator's initial written communication with a consumer, if any, whether on paper or electronically.

Financial Institution Reporting Requirements

Section 1007.103(e) specifies the institution-related and employee information an institution must submit to the Registry in connection with the initial registration of one or more MLOs and annually thereafter. The institution also must update this information within 30 days of the date that this information becomes inaccurate. Employees of the institution who submit information to the Registry on behalf of the institution must verify their identity and attest that they have the authority to enter data on behalf of the institution, that the information submitted is correct, and that the covered financial institution will keep the required information current and will file accurate supplementary information on a timely basis.

Financial Institution Disclosure Requirements

Section 1007.105(a) requires the institution to make the unique identifiers of its MLO employees available to consumers in a manner and method practicable to the institution.

Financial Institution Recordkeeping Requirements

Section 1007.104 requires that an institution that employs one or more MLOs to adopt and follow written policies and procedures to, at a minimum, address certain specified areas related to MLO registration. These policies must be appropriate to the nature, size and complexity of the institution's mortgage lending activities.

Type of Review: Extension of a currently approved collection.

Affected Public: Individuals; Businesses or other for-profit.

Estimated Number of Respondents: 85,353.

Estimated Total Annual Burden: 51,384 hours.

On March 17, 2021, the OCC published a 60-day notice for this information collection, 86 FR 14678. No comments were received. Comments continue to be invited on: (a) Whether the collection of information is necessary for the proper performance of the functions of the OCC, including whether the information has practical utility; (b) The accuracy of the OCC's estimate of the burden of the collection of information; (c) Ways to enhance the quality, utility, and clarity of the information to be collected; (d) Ways to minimize the burden of the collection on respondents, including through the use of automated collection techniques or other forms of information technology; and (e) Estimates of capital or start-up costs and costs of operation, maintenance, and purchase of services to provide information.

Theodore J. Dowd,
Deputy Chief Counsel, Office of the Comptroller of the Currency.

[FR Doc. 2021-12332 Filed 6-11-21; 8:45 am]

BILLING CODE 4810-33-P